DEPARTMENT OF HEALTH AND HUMAN SERVICES

Administration for Children and Families

[OMB No.: 0970-0353]

Submission for OMB Review; Comment Request

Title: Regional Partnership Grant (RPG) Program Data Collection.

Description: On September 30, 2007, the Administration for Children and Families (ACF), Children's Bureau, awarded multi-year grants to 53 regional partnership grantees (RPGs) to improve the safety, permanency and well-being of children affected by methamphetamine or other substance abuse who have been removed or are at risk of removal from their homes. The Child and Family Services Improvement Act of 2006, the authorizing legislation for the RPG program, required that a set of performance indicators be established to periodically assess the grantees' progress on achieving outcomes. The legislation mandated that these performance indicators be developed through a consultative process involving ACF, the Substance Abuse and Mental Health Services Administration (SAMHSA), and representatives of the State or Tribal agencies who are members of the regional partnerships.

The final set of RPG performance indicators was approved by ACF and disseminated to the funded grantees in January 2008. It includes a total of 23 indicators across four outcome domains: child/youth (9 indicators), adult (7 indicators), family/relationship (5 indicators), and regional partnership/service capacity (2 indicators). It also includes a core set of child and adult demographic elements that will provide important context needed to properly analyze, explain and understand the outcomes. No other national data collection measures these critical child, adult, family, and RPG outcomes specifically for these children and families. The data also will have significant implications for policy and program development for child well-being programs nationwide.

To minimize reporting burden, many of the data elements are already being collected by counties and States in order to report Federally mandated data for the Adoption and Foster Care Analysis and Reporting System (AFCARS), the Treatment Episode Data Set (TEDS) and the National Outcome Measures (NOMs); in addition, all States voluntarily submit data for the Federal National Child Abuse and Neglect Data System (NCANDS). Therefore, most child welfare data elements included in the RPG performance measures can be found in a State's automated case management system, which is often a Federally funded Statewide Automated Child Welfare Information System (SACWIS). If the State elects to implement a SACWIS, the system is expected to be a comprehensive automated case management tool that meets the needs of all staff involved in foster care and adoption case management. A SACWIS is required to support reporting of data to AFCARS semi-annually, and annually to NCANDS. AFCARS reports information on all children in foster care, while NCANDS reports information on State child maltreatment reports. TEDS admission and discharge data are collected by State substance abuse agencies according to their own information systems for monitoring substance abuse treatment admissions and transmitted monthly or quarterly to the SAMHSA contractor.

As a result of prior Federal government reporting requirements, States are already collecting several data elements needed by the RPGs. The RPGs can download information from these existing systems to obtain data to monitor their program outcomes, thereby reducing the amount of primary data collection needed.

Beginning in year two, grantees will submit a data file with their required indicator data, according to their final set of indicators, every six months.

Respondents: RPG Grantees.

Annual Burden Estimates
Instrument | Number of respondents | Number of responses per respondent | Average burden hours per response | Total burden hours
State, local, or Tribal Government | 31 | 2 | 175.50 | 10,881
Private Sector | 22 | 2 | 175.50 | 7,722

Estimated Total Annual Burden Hours: 18,603.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: December 1, 2008.
Janean Chambers,
Reports Clearance Officer.

[FR Doc. E8-28736 Filed 12-4-08; 8:45 am]

BILLING CODE 4184-01-P